DEPARTMENT OF ENERGY

Federal Energy Regulatory Commission

[Docket No. CP01-361-000]

Northwest Pipeline Corporation; Notice of Site Visit

July 10, 2002.

On July 16 and 17, 2002, the Office of Energy Projects staff and representatives of Northwest Pipeline Corporation (Northwest) will conduct a site visit of the Grays Harbor Pipeline Project 2001 in Thurston and Grays Harbor Counties, Washington.

All interested parties may attend. Those planning to attend must provide their own transportation. Interested parties can meet staff on July 16 at about 2 p.m. in the parking lot at the Best Western Tumwater Inn, 5188 Capitol Boulevard, Tumwater, Washington. Staff will start on July 17 at 7:30 a.m. at the same location. Also, Mr. Bill Prehm of Northwest can be contacted at telephone No. (360) 507-2804.

For further information, please contact the Office of External Affairs at (202) 208-1088.

Linwood A. Watson, Jr.,
Deputy Secretary.

[FR Doc. 02-17809 Filed 7-15-02; 8:45 am]

BILLING CODE 6717-01-P